DEPARTMENT OF LABOR

Employment and Training Administration

[TA-W-81,968; TA-W-81,968A; TA-W-81,968B]

Verizon Business Networks Services, Inc. Senior Analysts-Sales Impletmentation (SA-SI) Birmingham, Alabama; Verizon Business Networks Services, Inc. Senior Analysts-Sales Impletmentation (SA-SI) Service Program Delivery Division San Francisco, California; Verizon Business Networks Services, Inc.Senior Analysts-Sales Impletmentation (SA-SI) Alpharetta, Georgia: Amended Certification Regarding Eligibility To Apply for Worker Adjustment Assistance

In accordance with Section 223 of the Trade Act of 1974, as amended (“Act”), 19 U.S.C. 2273, the Department of Labor issued a Certification of Eligibility to Apply for Worker Adjustment Assistance on December 7, 2012, applicable to workers of Verizon Business Networks Services, Inc., Senior Analysts-Sales Implementation (SA-SI), Birmingham Alabama (TA-W-81,968) and Verizon Business Network Services, Inc., Senior Analyst-Sales Implementation (SA-SI), and Service Program Delivery Division, San Francisco, California (TA-W-81,968A). The worker group supplies senior analyst-sales implementation and service program delivery services. The notice was published in the Federal Register on January 4, 2013 (78 FR 767).

At the request of a company official, the Department reviewed the certification for workers of the subject firm. Information shows that worker separations occurred during the relevant time period at the Senior Analyst-Sales Implementation (SA-SI), Alpharetta, Georgia location of Verizon Business Network Services, Inc. due to a shift in services to a foreign country.

Accordingly, the Department is amending the certification to include workers of the Senior Analyst-Sales Implementation (SA-SI), Alpharetta, Georgia location of Verizon Business Network Services, Inc.

The intent of the Department's certification is to include all workers of the subject firm who were adversely affected by a shift of senior analyst-sales implementation and service program delivery services to a foreign country.

The amended notice applicable to TA-W-81,968, TA-W-81,968A, and TA-W-81,968B is hereby issued as follows:

All workers from Verizon Business Network Services, Inc., Senior Analyst-Sales Implementation (SA-SI), Birmingham, Alabama (TA-W-81,968), Verizon Business Network Services, Inc., Senior Analyst-Sales Implementation (SA-SI), and Service Program Delivery Division, San Francisco, California (TA-W-81,968A) and Verizon Business Network Services, Inc., Senior Analyst-Sales Implementation (SA-SI), Alpharetta, Georgia (TA-W-81,968B), who became totally or partially separated from employment on or after September 13, 2011 through December 7, 2014, and all workers in the group threatened with total or partial separation from employment on the date of certification through two years from the date of certification, are eligible to apply for adjustment assistance under Chapter 2 of Title II of the Trade Act of 1974, as amended.

Signed at Washington, DC, this 18th day of July 2013.
Michael W. Jaffe,
Certifying Officer, Office of Trade Adjustment Assistance.

[FR Doc. 2013-18928 Filed 8-5-13; 8:45 am]

BILLING CODE 4510-FN-P